DEPARTMENT OF THE TREASURY

Alcohol and Tobacco Tax and Trade Bureau

[Docket No. TTB-2015-0001]

Proposed Information Collections; Comment Request (No. 54)

AGENCY: Alcohol and Tobacco Tax and Trade Bureau (TTB); Treasury.

ACTION: Notice and request for comments.

SUMMARY: As part of our continuing effort to reduce paperwork and respondent burden, and as required by the Paperwork Reduction Act of 1995, we invite comments on the proposed or continuing information collections listed below in this notice.

DATES: We must receive your written comments on or before September 8, 2015.

ADDRESSES: As described below, you may send comments on the information collections listed in this document using the “Regulations.gov” online comment form for this document, or you may send written comments via U.S. mail or hand delivery. TTB no longer accepts public comments via email or fax.

• http://www.regulations.gov: Use the comment form for this document posted within Docket No. TTB-2015-0001 on “Regulations.gov,” the Federal e-rulemaking portal, to submit comments via the Internet;

• U.S. Mail: Michael Hoover, Regulations and Rulings Division, Alcohol and Tobacco Tax and Trade Bureau, 1310 G Street NW., Box 12, Washington, DC 20005.

• Hand Delivery/Courier in Lieu of Mail: Michael Hoover, Alcohol and Tobacco Tax and Trade Bureau, 1310 G Street NW., Suite 400, Washington, DC 20005.

Please submit separate comments for each specific information collection listed in this document. You must reference the information collection's title, form or recordkeeping requirement number, and OMB number (if any) in your comment.

You may view copies of this document, the information collections listed in it and any associated instructions, and all comments received in response to this document within Docket No. TTB-2015-0001 at http://www.regulations.gov. A link to that docket is posted on the TTB Web site at http://www.ttb.gov/forms/comment-on-form.shtml. You may also obtain paper copies of this document, the information collections described in it and any associated instructions, and any comments received in response to this document by contacting Michael Hoover at the addresses or telephone number shown below.

FOR FURTHER INFORMATION CONTACT: Michael Hoover, Alcohol and Tobacco Tax and Trade Bureau, 1310 G Street NW., Box 12, Washington, DC 20005; telephone 202-453-1039, ext. 135; or email informationcollections@ttb.gov (please do not submit comments on this notice to this email address).

SUPPLEMENTARY INFORMATION:

Request for Comments

The Department of the Treasury and its Alcohol and Tobacco Tax and Trade Bureau (TTB), as part of their continuing effort to reduce paperwork and respondent burden, invite the general public and other Federal agencies to comment on the proposed or continuing information collections listed below in this notice, as required by the Paperwork Reduction Act of 1995 (44 U.S.C. 3501 et seq.).

Comments submitted in response to this notice will be included or summarized in our request for Office of Management and Budget (OMB) approval of the relevant information collection. All comments are part of the public record and subject to disclosure. Please do not include any confidential or inappropriate material in your comments.

We invite comments on: (a) Whether this information collection is necessary for the proper performance of the agency's functions, including whether the information has practical utility; (b) the accuracy of the agency's estimate of the information collection's burden; (c) ways to enhance the quality, utility, and clarity of the information collected; (d) ways to minimize the information collection's burden on respondents, including through the use of automated collection techniques or other forms of information technology; and (e) estimates of capital or start-up costs and costs of operation, maintenance, and purchase of services to provide the requested information.

Information Collections Open for Comment

Currently, we are seeking comments on the following forms, recordkeeping requirements, or questionnaires:

Title: Labeling and Advertising Requirements Under the Federal Alcohol Administration Act.

OMB Number: 1513-0087.

TTB Form or Recordkeeping Requirement Number: None.

Abstract: Under section 105(e) of the Federal Alcohol Administration Act (FAA Act), 27 U.S.C. 205(e), TTB has issued regulations regarding the labeling and advertising of wine, distilled spirits, and malt beverages. The FAA Act provides that these regulations should, among other things, prohibit consumer deception and the use of misleading statements on labels and ensure that labels provide the consumer with adequate information as to the identity and quality of the product. Under these regulations, bottlers and importers of alcohol beverages must provide certain mandatory information and adhere to certain performance standards for statements made on labels and in advertisements of alcohol beverages to ensure that consumers are not deceived or mislead about a product's identity and quality.

Current Actions: TTB is submitting this collection as a revision. The information collection requirement remains unchanged. However, we are revising the burden estimate to reflect an increase in the number of respondents and the resulting burden hours resulting from an increase in the number of regulated industry members.

Type of Review: Revision of a currently approved collection.

Affected Public: Businesses or other for-profits.

Estimated Number of Respondents: 9,552.

Estimated Total Annual Burden Hours: 9,552.

Title: Beer for Exportation.

OMB Number: 1513-0114.

TTB Form Number: 5130.12.

Abstract: Under 26 U.S.C. 5051, a Federal excise tax is imposed on beer removed from domestic breweries for consumption or sale. However, under 26 U.S.C. 5053, beer is exempt from this tax if it is exported in accordance with regulations issued by the Secretary of the Treasury. Under these regulations, beer may be removed from a brewery for exportation without payment of the Federal excise tax normally due on removal. In order to ensure that exportation took place as claimed and that untaxpaid beer does not reach the domestic market, TTB requires certification of the exportation on form TTB F 5130.12.

Current Actions: We are submitting this information collection for extension purposes only. The form, estimated number of respondents, and estimated number of burden hours remain unchanged.

Type of Review: Extension of a currently approved collection.

Affected Public: Businesses or other for-profits.

Estimated Number of Respondents: 60.

Estimated Total Annual Burden Hours: 5,940.

Title: Usual and Customary Business Records Relating to Wine, TTB REC 5120/1).

OMB Number: 1513-0115.

TTB Recordkeeping Requirement Number: 5120/1.

Abstract: Under 26 U.S.C. 5367, 5369, 5370, and 5555, TTB regulations require wineries and taxpaid wine bottling houses to keep usual and customary business records, including purchase invoices, sales invoices, and internal records documenting the flow of materials and ingredients through fermenting, processing, packaging, storing and shipping operations. TTB routinely inspects these records to ensure the proper payment of Federal wine excise taxes by these businesses.

Current Actions: TTB is submitting this collection as a revision. The information collection remains unchanged. However, we are revising the burden estimate to reflect an increase in the number of respondents due to an increase in the number of regulated industry members. We also are adjusting the reported burden hours to one hour since this information collection involves usual and customary business records which would be maintained by the regulated businesses even without the regulatory requirements to keep and make these records available for TTB inspection.

Type of Review: Revision of a currently approved collection.

Affected Public: Businesses or other for-profits.

Estimated Number of Respondents: 5,925.

Estimated Total Annual Burden Hours: One.

Title: Bond for Drawback Under 26 U.S.C. 5131.

OMB Number: 1513-0116.

TTB Form Number: 5154.3.

Abstract: The Internal Revenue Code, at 26 U.S.C. 5111-5114, authorizes “drawback” (similar to a refund) of all but $1.00 per gallon of the Federal excise tax already paid on distilled spirits, if the spirits are subsequently used in the manufacture of certain nonbeverage products such as medicines, food products, flavors, and perfumes. Persons making such products must file claims proving their eligibility for drawback. Claims may be filed on either a monthly or a quarterly basis, and 26 U.S.C. 5114(b) authorizes the Secretary of the Treasury to require persons filing monthly claims to file a bond. The purpose of these bonds is to protect the Government in the event that after a claim is paid, a manufacturer is found not to have been eligible for some or all of the amount drawback that was paid.

Current Actions: We are submitting this information collection for extension purposes only. The form, estimated number of respondents, and estimated number of burden hours remain unchanged.

Type of Review: Extension of a currently approved collection.

Affected Public: Businesses or other for-profits.

Estimated Number of Respondents: 52.

Estimated Total Annual Burden Hours: 10.

Dated: July 6, 2015.
Angela M. Jeffries,
Acting Director, Regulations and Rulings Division.

[FR Doc. 2015-16791 Filed 7-8-15; 8:45 am]

BILLING CODE 4810-31-P